NUCLEAR REGULATORY COMMISSION

Advisory Committee on the Medical Uses of Isotopes: Meeting Notice

AGENCY: U.S. Nuclear Regulatory Commission.

ACTION: Notice of meeting.

SUMMARY: NRC will convene a meeting of the Advisory Committee on the Medical Uses of Isotopes (ACMUI) October 27-28, 2008. A sample of agenda items to be discussed during the public session includes: (1) ACMUI subcommittee reports on cesium chloride (CsCl), permanent implant brachytherapy rulemaking, and fingerprinting; (2) Y-90 microsphere brachytherapy licensing guidance; (3) potential changes to 10 CFR Parts 20 and 35; (4) patient needs, concerns, and rights in radiation medicine; (5) infiltration of fluorine-18 (F-18) and therapeutic radiopharmaceuticals as medical events; (6) status of recommendations for modifying training and experience attestation requirements; (7) status of technical basis for the Petition for Rulemaking (PRM) 35-20 (Ritenour) and follow-up; (8) Potential rulemaking and associated Regulatory Issue Summary (RIS) regarding multiple RSOs on a medical-use license; (9) status of current and future 10 CFR Part 35 rulemaking; and (10) medical isotope shortages. A copy of the agenda will be available at http://www.nrc.gov/reading-rm/doc-collections/acmui/agenda or by e-mailing Ms. Ashley Tull at the contact information below.

Purpose: Discuss issues related to 10 CFR Part 35 Medical Use of Byproduct Material.

Date and Time for Closed Sessions: October 27, 2008 from 8 a.m. to 9 a.m. This session will be closed so that ACMUI can discuss internal Committee business and receive annual ethics training.

Date and Time for Open Sessions: October 27, 2008, from 9 a.m. to 5 p.m. and October 28, 2008, from 8 a.m. to 4 p.m.

Address for Public Meeting: U.S. Nuclear Regulatory Commission, Two White Flint North Building, Room T-2B3, 11545 Rockville Pike, Rockville, Maryland 20852.

Public Participation: Any member of the public who wishes to participate in the meeting should contact Ms. Tull using the information below.

FOR FURTHER INFORMATION CONTACT: Ashley M. Tull, e-mail: ashley.tull@nrc.gov, telephone: (240) 888-7129.

Conduct of the Meeting

Leon S. Malmud, M.D., will chair the meeting. Dr. Malmud will conduct the meeting in a manner that will facilitate the orderly conduct of business. The following procedures apply to public participation in the meeting:

1. Persons who wish to provide a written statement should submit an electronic copy to Ms. Tull at the contact information listed above. All submittals must be received by October 20, 2008, and must pertain to the topic on the agenda for the meeting.

2. Questions and comments from members of the public will be permitted during the meeting, at the discretion of the Chairman.

3. The transcript will be available on ACMUI's Web site (http://www.nrc.gov/reading-rm/doc-collections/acmui/tr/) on or about January 27, 2009. A meeting summary will be available on or about December 11, 2008.

4. Persons who require special services, such as those for the hearing impaired, should notify Ms. Tull of their planned attendance.

This meeting will be held in accordance with the Atomic Energy Act of 1954, as amended (primarily Section 161a); the Federal Advisory Committee Act (5 U.S.C. App); and the Commission's regulations in Title 10, U.S. Code of Federal Regulations, Part 7.

Dated: September 16, 2008.
Andrew L. Bates,
Advisory Committee Management Officer.

[FR Doc. E8-22066 Filed 9-19-08; 8:45 am]

BILLING CODE 7590-01-P